DEPARTMENT OF JUSTICE

Bureau of Alcohol, Tobacco, Firearms and Explosives

[Docket No. ATF 32N; ATF O 1120.8]

Delegation Order—Authority To Facilitate Implementation of the NICS Improvement Amendments Act of 2007

1. Purpose. This order delegates the authority to exercise the authorities and responsibilities committed to the Director of the Bureau of Alcohol, Tobacco, Firearms and Explosives (ATF) under the NICS Improvement Amendments Act of 2007, Public Law 110-180 (NIAA). This authority is to establish and enforce the criteria that applicable Federal departments and agencies and states use to create qualifying relief from firearms disabilities programs, to make decisions as to whether applicable Federal departments and agencies and states have properly implemented and certified relief from firearms disabilities programs under the NIAA, and to make any related determinations under the NIAA regarding such relief from firearms disabilities programs.

2. Delegations. Under the authority vested in the Director, Bureau of Alcohol, Tobacco, Firearms and Explosives, by Title 28 U.S.C. 599A, 28 CFR 0.130-0.133, and Attorney General Order Number 3072-2009, Delegation of Authority to the Director of the Bureau of Alcohol, Tobacco, Firearms, and Explosives to Facilitate Implementation of the NICS Improvement Amendments of 2007, I hereby delegate to the Assistant Director, Enforcement Programs and Services, the authority to exercise the authorities and responsibilities committed to the Director of ATF under the NIAA. This authority is to establish and enforce the criteria that applicable Federal departments and agencies and states use to create qualifying relief from firearms disabilities programs, to make decisions as to whether applicable Federal departments and agencies and states have properly implemented and certified relief from firearms disabilities programs under the NIAA, and to make any related determinations under the NIAA regarding such relief from firearms disabilities programs.

3. Redelegation. The authority in this order may be redelegated to a position not lower than the Chief, Firearms Programs Division.

4. Questions. Questions regarding this order should be addressed to the Chief, Firearms Programs Division at (202) 648-7090.

Signed: June 22, 2009.
Kenneth Melson,
Acting Director.

[FR Doc. E9-16453 Filed 7-10-09; 8:45 am]

BILLING CODE 4410-FY-P